DEPARTMENT OF HEALTH AND HUMAN SERVICES

Health Resources and Services Administration

Notice of Supplemental Award; Infant-Toddler Court Program—State Awards

AGENCY: Health Resources and Services Administration (HRSA), Department of Health and Human Services.

ACTION: Notice of supplemental funding.

SUMMARY: HRSA is providing additional award funds to the 12 current Infant Toddler Court Program (ITCP)—State Awards recipients previously funded under HRSA-22-73 to support the continuation and expansion of existing activities to build state and local capacity and implement the infant-toddler court approach in federal fiscal year (FY) 2025.

FOR FURTHER INFORMATION CONTACT: Ekaterina Zoubak, Early Childhood Systems Analyst, Division of Home Visiting and Early Childhood Systems, HRSA, at ezoubak@hrsa.gov or 240-475-8014.

SUPPLEMENTARY INFORMATION:

Intended Recipient(s) of the Award: All 12 current recipients of ITCP—State Awards, as listed in Table I.

Amount of Non-Competitive Awards: 12 awards for $2,798,847 total (up to $ 233,237 each).

Project Period: September 30, 2022,-September 29, 2027.

Assistance Listing Number: 93.110.

Award Instrument: Non-competitive supplemental funding to the existing Cooperative Agreement.

Authority: 42 U.S.C. 701(a)(2) (Title V, § 501(a)(2) of the Social Security Act)

Table 1—Recipient(s) and Award Amount(s)
Grant No. | Award recipient name | City, state | Award amount
U2ZMC46643 | Prevent Child Abuse Arizona | AZ | $233,237
U2ZMC529755 | Illuminate Colorado | CO | 233,237
U2ZMC46638 | Georgia State University Research Foundation, Inc | GA | 233,237
U2ZMC46644 | Iowa Department of Public Health | IA | 233,237
U2ZMC46639 | Michigan Department of Health and Human Services | MI | 233,237
U2ZMC46636 | Nevada Division of Child & Family Services | NV | 233,237
U2ZMC46642 | Passaic County Court Appointed Special Advocates, A New Jersey Nonprofit Corporation | NJ | 233,237
U2ZMC46640 | Justice Innovation Inc. d/b/a Center for Court Innovation | NY | 233,237
U2ZMC46637 | Educational Service Center of Cuyahoga County | OH | 233,237
U2ZMC46641 | Oklahoma Department of Mental Health and Substance Abuse Services | OK | 233,237
U2ZMC46635 | Children's Center | UT | 233,237
U2ZMC46634 | Children and Youth Justice Center | WA | 233,237

Justification: In FY 2022, under the authority for Special Projects of Regional and National Significance (42 U.S.C. 701(a)(2) (Title V, § 501(a)(2) of the Social Security Act)), HRSA awarded ITCP State awards to 12 recipients (HRSA-22-073). This award included expectations for the recipient to continue and expand research-based infant-toddler court teams to change child welfare practices and improve the early developmental health and well-being of infants, toddlers, and their families.

A Congressional Report accompanying the Further Consolidated Appropriations Act, 2024 (P.L. 118-47), included funding to “to continue and expand research-based Infant-Toddler Court Teams to change child welfare practices to improve well-being for infants, toddlers, and their families,” (Senate Report 118-84). In addition, the Joint Explanatory Statement accompanying the FY 2024 appropriations act directed HRSA to “allocate funding to ensure continuation of existing grantees, technical assistance, and other activities.” In FY 2024, HRSA provided a supplement of $2,700,000 in Special Projects of Regional and National Significance funding, through its Maternal and Child Health Bureau, to ITCP—State Award Program recipients noted in Table 1.

Consistent with previous Congressional intent, HRSA will provide $2,798,847 in FY 2025 in supplemental funding to the same recipients outlined in Table 1. This supplement will be used for project activities within the scope of the current ITCP—State Awards funding opportunity (HRSA-22-073) and improve access to evidence-based child welfare practices and improve the early developmental health and well-being of infants, toddlers, and their families.

Thomas J. Engels,
Administrator.

[FR Doc. 2025-15469 Filed 8-13-25; 8:45 am]

BILLING CODE 4615-15-P